DEPARTMENT OF THE INTERIOR

Bureau of Land Management

[WY-040-1610-DS]

Notice of Availability of the Draft Environmental Impact Statement for the Snake River Resource Management Plan

AGENCY: Bureau of Land Management, Interior.

ACTION: Notice of Availability of the Draft Environmental Impact Statement (EIS) for the Snake River Resource Management Plan (RMP), Teton County, Wyoming.

SUMMARY: In accordance with Section 202 of the National Environmental Policy Act of 1969, the Bureau of Land Management (BLM) has prepared a Draft RMP/EIS for the Snake River planning area. This planning effort addresses the BLM-administered public lands and mineral estate in the vicinity of the Snake River and the Town of Jackson, Teton County, Wyoming. When completed, the RMP will provide general management direction for BLM-administered public lands and mineral estate and their uses in the planning area. The planning area contains approximately 1,073 acres of BLM surface/mineral estate and 15,123 acres of Federal mineral estate under private surface lands. The BLM administers these lands through its Pinedale Field Office, Pinedale, Wyoming, 80 miles south of Jackson. The Draft EIS analyzes six alternatives, ranging from continuing current management (No Action) to disposing of the BLM-administered public surface lands.

When approved, the RMP will contain land and resource management decisions that were deferred from consideration under the Pinedale RMP (EIS/Record of Decision 1988). Because the ownership status of these tracts of land was in question during the planning processes for Pinedale RMP, the BLM decided that a separate RMP would be prepared for these tracts at a later date.

DATES: Written comments on the Draft EIS for the Snake River RMP will be accepted for 90 days following the date the Environmental Protection Agency publishes the Notice of Availability of the Draft EIS in the Federal Register. Future meetings or hearings and any other public involvement activities will be announced at least 15 days in advance through public notices, media news releases, or mailings.

ADDRESSES: Written comments should be sent or hand-delivered to: Snake River RMP Team Leader, Bureau of Land Management, Pinedale Field Office, 432 South Mill Street, P.O. Box 768, Pinedale, Wyoming 82941. Comments submitted by electronic mail should be sent to: pinedale_wymail@blm.gov. Please submit electronic comments as an ASCII file, avoiding the use of special characters and any form of encryption. Include “Attn: Snake River RMP” and your name and return address in the text of the message. If you do not receive a confirmation of receipt message notifying you that the BLM has received your electronic comments within 72 hours of electronic mailing, please contact the Pinedale Field Office directly by telephone at (307) 367-5300.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Copies of the Draft EIS for the Snake River RMP are available in the Pinedale Field Office at the above address, and at the BLM Wyoming State Office, 5353 Yellowstone Road, Cheyenne, Wyoming 82009. Anyone wishing to be placed on the mailing list for the Snake River planning effort should contact the Pinedale Field Office at the above address.

FOR FURTHER INFORMATION CONTACT: Priscilla Mecham, Field Manager, or Kellie Roadifer, Snake River RMP Team Leader, Pinedale Field Office, Bureau of Land Management, at the above address, or at (307) 367-5300.

SUPPLEMENTARY INFORMATION: The BLM-administered public lands and mineral estate in the planning area currently do not have an approved land use plan. In December 1999, the BLM issued a Notice of Intent to prepare a land use plan for those lands and mineral estate under its jurisdiction. Upon approval, the Snake River RMP would establish management direction for the surface and mineral estates and associated resources under BLM administration near Jackson, Wyoming.

The BLM has conducted the Snake River RMP process under Federal regulations established to meet the provisions of the Federal Land Policy Management Act and National Environmental Policy Act, at 43 Code of Federal Regulations (CFR) 1600 and 40 CFR 1500-1508, respectively.

Public participation has been sought through scoping, public meetings, and surveys to ensure that this planning effort addresses all issues and concerns from those interested in the management of the public lands within the Snake River planning area.

Based on issues and concerns raised by the public during scoping and public participation activities the BLM has developed six alternative plans for managing the 23 parcels (1,073 acres) of public land and resources in the Snake River valley. The BLM's preferred alternative proposes disposal or transfer of ownership of administrative responsibilities for 23 parcels (1,073 acres) of BLM-administered public lands to other Federal, State, or local government agencies. The preferred alternative also considers disposal of the parcels to a private entity or entities with land conservation or open-space preservation interests. All mineral estate would be retained in federal ownership. Sand and gravel mining would be allowed under certain circumstances. The lands would be closed to all other mineral activity. The remaining alternatives range from continuation of current management (No Action) to varying combinations of preservation, protection, and development of the BLM-administered lands and resources in the planning area.

During the Snake River planning process the BLM identified issues associated with land use and resource management that guided development of the six alternatives. These key issues include:

1. Cooperative Management

The BLM-administered public lands along the Snake River are interspersed among tracts of private and State lands. With the exception of three parcels, all of the BLM-administered parcels are surrounded or “landlocked” by lands in private ownership. Private and State lands in the planning area are similarly bounded by Federal lands administered by the following agencies: National Park Service—Grand Teton National Park; U.S. Fish and Wildlife Service—National Elk Refuge; and U.S. Department of Agriculture Forest Service—Bridger-Teton National Forest. In addition, the U.S. Army Corps of Engineers administers the Snake River channel and facilities associated with flood control. Opportunities for cooperative management of surface uses by various Federal and State agencies include access to private and commercial river-based recreation, land ownership adjustment, development and maintenance of additional trail-based recreation activities, and such activities as scientific study and information sharing.

2. Recreation Opportunities

BLM-administered public lands along the Snake River are generally accessible to the public for recreation activities. Private recreation use is primarily by Teton County residents, especially those from the communities of Jackson and Wilson. There is also substantial commercially outfitted river floating, with visitors from throughout the United States and from foreign countries. The primary recreation activities are hiking, walking, horseback riding, cross-country skiing, picnicking, watching wildlife, and river-based recreation, such as fishing and boating. At present, no recreation use fees are collected by the BLM. Recreation use, particularly commercially outfitted floating, is increasing. This results in increased crowding, introduction of noxious weeds, and degradation of riparian vegetation. Questions addressed in the Snake River RMP involve how best to accommodate the demand for recreation use of BLM-administered public lands.

3. Availability and Development of Mineral Materials for Construction

At present, there is a small, localized sand and gravel mining industry within the planning area. These mineral materials are needed primarily for maintenance of the flood control levees along the Snake River, and for road and building construction and maintenance around the Jackson Hole area. These mineral materials are not readily available from other Federal, State, or local government lands, nor are they readily available from private lands. Sand and gravel are often trucked in from outside the Jackson Hole area at a higher cost to users. Questions addressed in the Snake River RMP include whether sand and gravel mining from BLM-administered public lands would be appropriate, and what conditions would be necessary to protect recreation opportunities, watershed resources and important wildlife habitat.

4. Land Surface Ownership Adjustment

Because of the small acreage and irregular shape of each of the 23 BLM-administered parcels under consideration, their scattered nature, and their proximity to private real estate of high value, BLM is considering disposal or transfer of public ownership or administration of these parcels. Questions addressed in the Snake River RMP include whether the parcels should be retained in Federal ownership, how these lands should be administered, who should administer the lands, and under what criteria would the parcels be evaluated and deemed suitable for disposal, if appropriate administration could not be established.

The Snake River RMP Draft EIS alternative plans were developed in conformance with the BLM's National Fire Plan and the National Energy Policy (May 2001). The potential in the Snake River RMP planning area for development of energy resources such as oil and gas, coal, geothermal, and wind resources has been determined to be very low.

Dated: November 27, 2002.
Robert P. Henry,
Acting Associate State Director.

[FR Doc. 03-5165 Filed 3-3-03; 12:50 pm]

BILLING CODE 4310-22-P